DEPARTMENT OF COMMERCE

National Oceanic and Atmospheric Administration

[I.D. 021704C]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held on March 8-12, 2004.

ADDRESSES: These meetings will be held at the Adam's Mark Hotel, 64 South Water Street, Mobile, AL; telephone: 251-438-4000.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

March 11, 2004

8:30 a.m.—Convene.

8:45 a.m.-11:30 a.m.—Receive public testimony on the Draft Reef Fish Amendment 22 (Red Snapper Rebuilding Plan) and the final Environmental Impact Statement (EIS) for Essential Fish Habitat (EFH).

1 p.m.-4:30 p.m.—Receive the Reef Fish Management Committee report.

4:30 p.m.-5:30 p.m.—(Closed Session) Receive the report of the Joint Personnel/Administrative Policy Committee.

March 12, 2004

8:30 a.m.-9 a.m.—Receive the Habitat Protection Committee report.

9 a.m.-9:30 a.m.—Receive the Joint Reef Fish/Mackerel/Red Drum Management Committee report.

9:30 a.m.-10 a.m.—Receive the Joint Reef Fish/Mackerel Management Committee report.

10 a.m.-11 a.m.—Receive the Shrimp Management Committee report.

11 a.m.-11:15 a.m.—Receive the Budget Committee Report.

11:15 a.m.-11:30 a.m.—Receive the Joint Personnel/Administrative Committee report.

1 p.m.-1:15 p.m.—Receive the report on the Marine Recreational Fishery Statistics Survey (MRFSS) meeting.

1:15 p.m.-1:45 p.m.—Receive the report on the Southeast Data and Review (SEDAR) Steering Committee meeting.

1:45 p.m.-2 p.m.—Receive the South Atlantic Fishery Management Council (SAFMC) Liaison Report.

2 p.m.-2:15 p.m.—Receive a report on the Gulf Safety Committee.

2:15 p.m.-2:30 p.m.—Receive a report on the Joint Council meeting.

2:30 p.m.-2:45 p.m.—Receive the NMFS Billfish/Highly Migratory Species Advisory Panel (HMS AP) meeting reports.

2:45 p.m.-3 p.m.—Receive Enforcement Reports.

3 p.m.-3:15 p.m.—Receive the NMFS Regional Administrator's Report.

3:15 p.m.-3:30 p.m.—Receive Director's Reports.

3:30 p.m.-3:45 p.m.—Other Business

March 8, 2004

8 a.m.-9:30 a.m.—Convene the Shrimp Management Committee to review Draft Shrimp Amendment 13.

9:30 a.m.-11:30 a.m.—Convene the Budget Committee in a closed session to review bids to hire a court reporter. The Budget Committee meeting will then be open to the public to discuss the cost of new microphones and a Florida State University economic data collection proposal.

1 p.m.-5:30 p.m.—Convene the Reef Fish Management Committee to review the Public Hearing Draft of Vermilion Snapper Amendment 23 that contains alternatives for arresting overfishing of that stock by commercial and recreational fishermen. The committee will also review and take final action on the Final Reef Fish Amendment 22 (red snapper rebuilding program). An options paper for Reef Fish Amendment 18 pertaining to the grouper fishery will be discussed. The following issues will also be reviewed: The Southeast Fisheries Science Center (SEFSC) recommendations on grouping amberjacks, tilefish, and deepwater groupers; U.S. Coast Guard rules for crew size of inspected recreational for-hire vessels; the SAFMC's action on yellowtail snapper; and a status report on the red snapper IFQ referendum. The Committee will ratify and/or add to the SEDAR pool and panel membership for each of the SEDAR workshops during 2004 and 2005 for stocks of king mackerel, red snapper, vermilion snapper, and greater amberjack. The Committee will develop recommendations for consideration by full Council on Thursday afternoon.

March 9, 2004

8:30 a.m.-11:30 a.m.—Continue with the Reef Fish Management Committee.

1 p.m.-2:30 p.m.—Convene the Habitat Protection Committee to review the final EIS for the Generic EFH Amendment; and to discuss Council participation in the Southeast Aquatic Resources Partnership (SARP).

2:30 p.m.-5 p.m.—Convene the Joint Reef Fish/Mackerel Committees to review hearing comments on the Joint Reef Fish/Mackerel Limited Access Scoping Document. The committees will also review the Scoping Document for Extension of the Charter Vessel Permit Moratorium.

March 10, 2004

8:30 a.m.-12 noon—Convene the Joint Personnel/Administrative Policy Committees in a closed session to address personnel issues and review the Administrative Handbook and Statement of Organizational Practices and Procedures (SOPPs).

1:30 p.m. to 4:30 p.m.—Convene the Joint Reef Fish/Mackerel/Red Drum Committees to receive a presentation on a Cage Culture Study; review hearing comments on the Offshore Aquaculture Amendment Scoping Document; and receive a presentation on the NMFS Regional Bycatch Plan.

Although non-emergency issues not contained in the agenda may come before the Council for discussion, in accordance with the Magnuson-Stevens Fishery Conservation and Management Act (MSFCMA), those issues may not be the subject of formal Council action during this meeting. Council action will be restricted to those issues specifically identified in this notice and any issues arising after publication of this notice that require emergency action under section 305 (c) of the MSFCMA, provided the public has been notified of the Council's intent to take final action to address the emergency. A copy of the Committee schedule and agenda can be obtained by calling (813) 228-2815.

Special Accommodations

These meetings are physically accessible to people with disabilities. Requests for sign language interpretation or other auxiliary aids should be directed to Anne Alford at the Council (see ADDRESSES) by March 1, 2004.

Dated: February 18, 2004.
Tracey Thompson,
Acting Director, Office of Sustainable Fisheries, National Marine Fisheries Service.

[FR Doc. E4-353 Filed 2-23-04; 8:45 am]

BILLING CODE 3510-22-S